DEPARTMENT OF JUSTICE

Notice of Lodging of Consent Decree Under the Clean Air Act

Notice is hereby given that on January 15, 2009, a proposed consent decree (“Consent Decree”) in United States v. CEMEX California Cement, LLC, Civil Action No. 07-00223-GW, was lodged with the United States District Court for the Central District of California.

The Consent Decree would resolve claims asserted by the United States against CEMEX California Cement, LLC (“CEMEX”) pursuant to Sections 113(b) and 167 of the Clean Air Act (the “Act”), 42 U.S.C. 7413(b) and 7477, seeking injunctive relief and the assessment of civil penalties for CEMEX's violations of the Prevention of Significant Deterioration (“PSD”) provisions in Part C of Subchapter I of the Act, 42 U.S.C. 7470-7492, and the federal PSD regulations, 40 CFR 52.21.

CEMEX operates a portland cement manufacturing facility in Victorville and Apple Valley, California. The complaint filed by the United States alleges that CEMEX modified Quarry Kiln #2 in 1997 and constructed new Quarry Kiln #3 in 2000 without complying with PSD, including the requirements to first obtain a PSD permit authorizing the modifications and to install and operate the best available technology to control emissions of sulfur dioxide (“SO2”), nitrogen oxides (“NOX”), and/or carbon monoxide (“CO”).

The Consent Decree would require CEMEX to comply with emissions limits of 1.95 pounds of NOX, 0.35 pounds of SO2, and 2.9 pounds of CO per ton of clinker at Quarry Kiln #2. The Consent Decree would also require CEMEX to comply with a 1.95 pounds of NOX per ton of clinker emission limit at Quarry Kiln #3, as well as a mass NOX emission limit for both kilns of 19,314 pounds per day of operation. Finally, the Consent Decree would require CEMEX to pay a $2,000,000 civil penalty.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. CEMEX California Cement, LLC, D.J. Ref. No. 90-5-2-1-08691.

The Consent Decree may be examined at the Office of the United States Attorney, Central District of California, 300 North Los Angeles Street, Room 7516, Los Angeles, California 90012, and at U.S. EPA Region 9, 75 Hawthorne Street, San Francisco, California 94105. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.25 (25 cents per page reproduction cost) payable to the U.S. Treasury or, if by e-mail or fax, forward a check in that amount to the Consent Decree Library at the stated address.

Henry S. Friedman,
Assistant Section Chief, Environmental Enforcement Section, Environment and Natural Resources Division.

[FR Doc. E9-1393 Filed 1-22-09; 8:45 am]

BILLING CODE 4410-15-P